DEPARTMENT OF LABOR

Employment and Training Administration

[TA-W-81,718]

Daimler Buses North America, Inc., a Subsidiary of Daimler North America Corp, Including On-Site Leased Workers From Noramtec, First Choice Staffing, Staff Works, and Mr. Santo Lamarco From Wurth Revcar Fasteners, Inc., Oriskany, NY; Amended Certification Regarding Eligibility To Apply for Worker Adjustment Assistance

In accordance with Section 223 of the Trade Act of 1974, as amended (“Act”), 19 U.S.C. 2273, the Department of Labor issued a Certification of Eligibility to Apply for Worker Adjustment Assistance on September 28, 2012, applicable to workers of Daimler Buses North America, Inc. a subsidiary of Daimler North America Corp., including leased workers from Noramtec, First Choice Staffing, and Staff Works, Oriskany, New York. The workers are engaged in activities related to the production of transit buses. The notice was published in the Federal Register on October 12, 2012 (77 FR 62260).

At the request of New York State Department of Labor, the Department reviewed the certification for workers of the subject firm. New information shows that a worker leased from Wurth Revcar Fasteners, Inc. was also employed on-site at Daimler Buses North America, Inc., Oriskany, New York. The Department has determined that this worker was sufficiently under the control of Daimler Buses North America, Inc. to be considered a leased worker.

The intent of the Department's certification is to include all workers of the subject firm who were adversely affected by increased customer imports of transit buses.

Based on these findings, the Department is amending this certification to include the worker leased from Wurth Revcar Fasteners, Inc. working on-site at the Oriskany, New York location of the subject firm.

The amended notice applicable to TA-W-81,718 is hereby issued as follows:

All workers of Daimler Buses North America, Inc., a subsidiary of Daimler North America Corp., including on-site leased workers from Noramtec, First Choice Staffing, Staff Works, and Mr. Santo LaMarco from Wurth Revcar Fasteners, Inc., Oriskany, New York, who became totally or partially separated from employment on or after June 8, 2011, through September 28, 2014, and all workers in the group threatened with total or partial separation from employment on date of certification through two years from the date of certification, are eligible to apply for adjustment assistance under Chapter 2 of Title II of the Trade Act of 1974, as amended.

Signed at Washington, DC, this 28th day of December 2012.
Del Min Amy Chen,
Certifying Officer, Office of Trade Adjustment Assistance.

[FR Doc. 2013-00342 Filed 1-9-13; 8:45 am]

BILLING CODE 4510-FN-P